DEPARTMENT OF THE INTERIOR

Bureau of Land Management

[WYW 182138]

Public Land Order No. 7856; Withdrawal of National Forest System Land for the Medicine Wheel/Medicine Mountain National Historic Landmark; Wyoming

AGENCY: Bureau of Land Management, Interior.

ACTION: Public Land Order

SUMMARY: Subject to valid existing rights, this order withdraws approximately 4,513 acres of National Forest System land in the Bighorn National Forest from location and entry under the United States mining laws, but not from leasing under the mineral or geothermal leasing laws, or disposal under the Materials Act of 1947, for a period of 20 years to protect and preserve existing heritage resources and American Indian spiritual values within the formally designated Medicine Wheel/Medicine Mountain National Historic Landmark (NHL).

DATES: This Public Land Order is effective on August 30, 2016.

FOR FURTHER INFORMATION CONTACT: Gayle Laurent, U.S. Forest Service, Region 2, Supervisors Office, 2013 Eastside Second Street, Sheridan, Wyoming 82801, 307-674-2656, or Marilyn Roth, BLM Wyoming State Office, 5353 N. Yellowstone Road, P.O. Box 1828, Cheyenne, Wyoming 82003, 307-775-6189 or via email at m75roth@blm.gov. Persons who use a telecommunications device for the deaf (TDD) may call the Federal Information Relay Service (FIRS) at 1-800-877-8339 to contact the above individuals. The FIRS is available 24 hours a day, 7 days a week, to leave a message or question with the above individuals. You will receive a reply during normal business hours.

SUPPLEMENTARY INFORMATION: This order withdraws National Forest System land to protect and preserve significant existing cultural resources and American Indian spiritual values within the formally designated Medicine Wheel/Medicine Mountain NHL. Heritage resources include artifacts, structures, or sites made by people or natural features that acquire historic value through human activities. Native Americans also use the Medicine Wheel/Medicine Mountain NHL as part of traditional ceremonial practices where tranquility is crucial.

Order

By virtue of the authority vested in the Secretary of the Interior by Section 204 of the Federal Land Policy and Management Act of 1976, 43 U.S.C. 1714, it is ordered as follows:

1. Subject to valid existing rights, the following described National Forest System land is hereby withdrawn from location and entry under United States mining laws, but not from leasing under the mineral or geothermal leasing laws, or disposal under the Materials Act of 1947, to protect and preserve existing heritage resources and American Indian spiritual values within the formally designated Medicine Wheel/Medicine Mountain NHL.

Big Horn National Forest

Sixth Principal Meridian, Wyoming

T. 56 N., R. 91 W.,

Sec. 19, lot 1.

T. 56 N., R. 92 W.,

Sec. 8, SE¼;

Sec. 9, S½;

Sec. 10, W½SW¼;

Sec. 13, S½NW¼ and SW¼;

Sec. 14, W½NW¼ and S½;

Sec. 15, E½, NW¼, N½SW¼, and SE¼SW¼;

Sec. 16, N½, SW¼, N½SE¼, and SW¼SE¼;

Sec. 17, E½;

Sec. 20, NE¼;

Sec. 21, N½;

Sec. 22, N½ and N½SE¼, excepting a strip of land 200 feet on each side of the center line of the Medicine Wheel Road, No. 104 in the N½;

Sec. 23, N½, N½SW¼, and N½SE¼, excepting a strip of land 200 feet on each side of the center line of the Medicine Wheel Road, No. 104 in the N½, N½SW¼, and N½SE¼;

Sec. 24, lots 1 and 2, W½NE¼, and W½, excepting a strip of land 200 feet on each side of the center line of the Medicine Wheel Road, No. 104 in the W½;

Sec. 25, N½NW¼, excepting a strip of land 200 feet on each side of the center line of the Medicine Wheel Road, No. 104 in the N½NW¼.

The area described contains approximately 4,513 acres in Big Horn County.

2. The withdrawal made by this order does not alter the applicability of laws governing the use of National Forest System land other than under the United States mining laws.

3. This withdrawal will expire 20 years from the effective date of this order, unless, as a result of a review conducted before the expiration date pursuant to Section 204(f) of the Federal Land Policy and Management Act of 1976, 43 U.S.C. 1714(f), the Secretary determines that the withdrawal shall be extended.

Dated: August 8, 2016.
Janice M. Schneider,
Assistant Secretary—Land and Minerals Management.

[FR Doc. 2016-20715 Filed 8-29-16; 8:45 am]

BILLING CODE 3410-11-P